DEPARTMENT OF LABOR

Employment and Training Administration

[TA-W-38,656]

The JPM Company; Amended Certification Regarding Eligibility To Apply for Worker Adjustment Assistance

In accordance with section 223 of the Trade Act of 1974 (19 USC 2273) the Department of Labor issued a Certification of Eligibility to Apply for Worker Adjustment Assistance on April 9, 2001, applicable to workers of The JPM Company, San Jose, California. The notice was published in the Federal Register on May 2, 2001 (66 FR 22006).

At the request of the State agency, the Department reviewed the certification for workers of the subject firm. The workers are engaged in the production of various wire harnesses and cable assemblies. Information received from the State shows that The JPM Company merged with Denron, Inc. in 1996. Information also shows that some workers separated from employment at The JPM Company had their wages reported under a separate unemployment insurance (UI) tax account for Denron, Inc.

Accordingly, the Department is amending the certification to properly reflect this matter.

The intent of the Department's certification is to include all workers of The JPM Company, San Jose, California who were adversely affected by increased imports of wire harnesses and cable assemblies.

The amended notice applicable to TA-W-38,656 is hereby issued as follows:

All workers of The JPM Company, Denron, Inc., San Jose, California who became totally or partially separated from employment on or after January 28, 2000 through April 9, 2003 are eligible to apply for adjustment assistance under Section 223 of the Trade Act of 1974.

Signed at Washington, DC this 29th day of June, 2001.
Linda G. Poole,
Certifying Officer, Division of Trade Adjustment Assistance.

[FR Doc. 01-17358 Filed 7-10-01; 8:45 am]

BILLING CODE 4510-30-M